DEPARTMENT OF ENERGY

Federal Energy Regulatory Commission

[Docket No. EG01-96-000, et al.]

PSEG Nuclear LLC, et al.; Electric Rate and Corporate Regulation Filings

January 11, 2001.

Take notice that the following filings have been made with the Commission:

1. PSEG Nuclear LLC

[Docket No. EG01-96-000]

Take notice that on December 29, 2000, PSEG Nuclear LLC (PSEG Nuclear or Applicant), having its principal place of business at 80 Park Plaza, T-16, Newark, New Jersey, filed with the Federal Energy Regulatory Commission an application for redetermination of exempt wholesale generator status pursuant to Part 365 of the Commission's regulations.

PSEG Nuclear is a limited liability company organized under the laws of the State of Delaware. PSEG Nuclear will be engaged, directly or indirectly through an affiliate as defined in Section 2(a)(11)(B) of the Public Utility Holding Company Act of 1935, exclusively in owning, or both owning and operating eligible generating facilities, and engaging in sales of electric energy at wholesale.

Comment date: February 1, 2001, in accordance with Standard Paragraph E at the end of this notice. The Commission will limit its consideration of comments to those that concern the adequacy or accuracy of the application.

2. Duke Energy Audrain, LLC

[Docket No. EG01-97-000]

Take notice that on January 3, 2001, Duke Energy Audrain, LLC (Duke Audrain) filed an application with the Federal Energy Regulatory Commission (the Commission) for determination of exempt wholesale generator status pursuant to Section 32 of the Public Utility Holding Company Act of 1935, as amended, and Part 365 of the Commission's regulations.

Duke Audrain is a Delaware limited liability company that will be engaged directly and exclusively in the business of owning and operating all or part of one or more eligible facilities to be located in Audrain County, Missouri. The eligible facilities will consist of an approximately 640 MW natural gas-fired, simple cycle electric generation plant and related interconnection facilities. The output of the eligible facilities will be sold at wholesale.

Comment date: February 1, 2001, in accordance with Standard Paragraph E at the end of this notice. The Commission will limit its consideration of comments to those that concern the adequacy or accuracy of the application.

3. Guadalupe Power Partners, LP

[Docket No. EG01-98-000]

Take notice that on January 4, 2001, Guadalupe Power Partners, LP (GPP), filed with the Federal Energy Regulatory Commission an application for redetermination of exempt wholesale generator status pursuant to Part 365 of the Commission's regulations.

GPP is a Delaware limited partnership which will own and/or operate a natural gas-fired electric generating facility with an expected generating capacity of 1,000 MW to be located in Guadalupe County, Texas within the region governed by the Electric Reliability Council of Texas (ERCOT) and sell electricity at wholesale.

Comment date: February 1, 2001, in accordance with Standard Paragraph E at the end of this notice. The Commission will limit its consideration of comments to those that concern the adequacy or accuracy of the application.

4. Hamakua Energy Partners, L.P.

[Docket No. EG01-99-000]

Take notice that on January 8, 2001, Hamakua Energy Partners, L.P., a Hawaii limited partnership, with its principal office located at J. A. Jones Drive, Charlotte, North Carolina 28287, filed with the Federal Energy Regulatory Commission (Commission) information with respect to a change in facts relative to its status as an exempt wholesale generator and an Application for determination that it remains an exempt wholesale generator pursuant to Part 365 of the Commission's regulations and Section 32 of the Public Utility Holding Company Act of 1935, as amended. Applicant is a Hawaii limited partnership that will be engaged directly and exclusively in operating an approximately 63 MW net naphtha and distillate oil-fired power plant (the Facility) located in Honakaa, in the northern coastal region of the island of Hawaii, and selling energy at wholesale from the Facility.

Comment date: February 1, 2001, in accordance with Standard Paragraph E at the end of this notice. The Commission will limit its consideration of comments to those that concern the adequacy or accuracy of the application.

5. MEP Pleasant Hill Operating, LLC

[Docket No. EG01-100-000]

Take notice that on January 8, 2000, MEP Pleasant Hill Operating, LLC (MEPPH Operating), filed with the Federal Energy Regulatory Commission (Commission) an application for determination of exempt wholesale generator status pursuant to Part 365 of the Commission's regulations and Section 32(a) of the Public Utility Holding Company Act of 1935. MEPPH Operating and CPN Pleasant Hill Operating, LLC (CPNPH Operating) will operate and sell power at wholesale from generation facilities under construction in Cass County, Missouri.

Comment date: February 1, 2001, in accordance with Standard Paragraph E at the end of this notice. The Commission will limit its consideration of comments to those that concern the adequacy or accuracy of the application.

6. North Carolina Power Holdings, LLC

[Docket No. EG01-101-000]

Take notice that on January 8, 2001, North Carolina Power Holdings, LLC (NCPH), a limited liability company with its principal place of business at 1400 Smith Street, Houston, Texas 77002, filed with the Federal Energy Regulatory Commission (Commission) an application for determination of exempt wholesale generator status pursuant to Part 365 of the Commission's regulations.

NCPH states that it will be engaged directly and exclusively in the business of owning two 35 MW generation facilities located in Elizabethtown and Lumberton, North Carolina. NCPH will sell its capacity exclusively at wholesale. A copy of the filing was served upon the Securities and Exchange Commission and the North Carolina Utilities Commission.

Comment date: February 1, 2001, in accordance with Standard Paragraph E at the end of this notice. The Commission will limit its consideration of comments to those that concern the adequacy or accuracy of the application.

7. Ogden Martin Systems of Fairfax, Inc.

[Docket No. ES01-11-002]

Take notice that on January 5, 2001, Ogden Martin Systems of Fairfax, Inc. filed with the Commission an amendment to its application in the above-referenced proceeding, seeking to increase the amount of debt it may issue from $142 million to $160 million.

Comment date: January 23, 2001, in accordance with Standard Paragraph E at the end of this notice.

8. Duke Energy Audrain, LLC

[Docket No. ER01-884-000]

Take notice that on January 3, 2001, Duke Energy Audrain, LLC (Duke Audrain), tendered for filing pursuant to Section 205 of the Federal Power Act its proposed FERC Electric Tariff No. 1.

Duke Audrain seeks authority to sell energy and capacity, as well as ancillary services, at market-based rates, together with certain waivers and preapprovals. Duke Audrain also seeks authority to sell, assign, or transfer transmission rights that it may acquire in the course of its marketing activities.

Duke Audrain seeks an effective date sixty (60) days from the date of filing for its proposed rate schedules.

Comment date: January 24, 2001, in accordance with Standard Paragraph E at the end of this notice.

9. American Electric Power Service Corporation

[Docket No. ER01-67-001]

Take notice that on January 8, 2001, American Electric Power Service Corporation tendered for filing, on behalf of the operating companies of the American Electric Power System (AEP), a proposed amendment to the Open Access Transmission Tariff accepted for filing by the Commission in Docket No. ER98-2786-000. The amendment is being submitted in response to a December 7, 2000 deficiency letter in this docket.

AEP requests waiver of notice to permit an effective date of December 1, 2000 for such amendments.

Copies of the filing have been served upon AEP's transmission customers and the stat utility regulatory commissions of Arkansas, Indiana, Kentucky, Louisiana, Michigan, Ohio, Oklahoma, Tennessee, Texas, Virginia and West Virginia.

Comment date: January 29, 2001, in accordance with Standard Paragraph E at the end of this notice.

10. American Electric Power Service Corporation

[Docket No. ER01-257-001]

Take notice that on January 8, 2001, the American Electric Power Service Corporation (AEPSC), tendered for filing an Amendment to Filing in No. Docket ER01-257-000. In AEPSC's initial filing on October 25, 2000, AEPSC failed to provide designations for a Transaction Confirmation Agreement (Confirmation Agreement) which was submitted for filing by the AEP Companies in the above referenced docket. Pursuant to the Commissions' Order No. 614 in Docket No. RM99-12-000, AEPSC respectfully designates the Confirmation Agreement with the City of Vernon, California as Service Agreement No. 269 under the Wholesale Market Tariff of the AEP Operating Companies (Power Sales Tariff).

The Power Sales Tariff was accepted for filing effective October 10, 1997, and has been designated AEP Companies' FERC Electric Tariff Original Volume No. 5. AEPSC respectfully requests waiver of notice to permit this the Confirmation Agreement to be made effective as initially requested on or prior to October 1, 2000.

A copy of the filing was served upon the Parties and the State Utility Regulatory Commissions of Arkansas, Indiana, Kentucky, Louisiana, Michigan, Ohio, Oklahoma, Tennessee, Texas, Virginia and West Virginia.

Comment date: January 29, 2001, in accordance with Standard Paragraph E at the end of this notice.

11. Atlantic City Electric Company, Baltimore Gas & Electric Company, Delmarva Power & Light Company, Metropolitan Edison Company, PP&L Inc., PECO Energy Company, Potomac Electric Power Company, Public Service Electric and Gas Company, UGI Utilities, Inc.

[Docket No. ER01-897-000]

Take notice that on January 5, 2001, Potomac Electric Power Company (Pepco), tendered for filing a Notice of Assignment pursuant to which PPL Montour, LLC (PPLM) and Allegheny Energy Supply Conemaugh, LLC (AESC) will, as part of Pepco's transfer of its ownership interests in the Conemaugh Generating Station to PPLM and AESC, replace Pepco as a Generating Station Owner under the Conemaugh Generating Station Interconnection Agreement (Agreement) which is designated as follows: Atlantic City Electric Company Rate Schedule FERC No. 75; Baltimore Gas & Electric Company Rate Schedule FERC No. 58; Delmarva Power & Light Company Rate Schedule FERC No. 124; Metropolitan Edison Company Rate Schedule FERC No. 77; PP&L Inc. Rate Schedule FERC No. 168; PECO Energy Company Rate Schedule FERC No. 123; Potomac Electric Power Company Rate Schedule FERC No. 46; Public Service Electric and Gas Company Rate Schedule FERC No. 166; and, UGI Utilities, Inc. Rate Schedule FERC No. 9.

The Agreement will become effective at the time Pepco's ownership interest in the Conemaugh Generating Station is transferred to PPLM and AESC.

Comment date: January 26, 2001, in accordance with Standard Paragraph E at the end of this notice.

12. Arizona Public Service Company

[Docket No. ER01-898-000]

Take notice that on January 5, 2001, Arizona Public Service Company (APS), tendered for filing umbrella Service Agreements to provide Short-Term Firm and Non-Firm Point-to-Point Transmission Service to Morgan Stanley Capital Group, Inc., under APS' Open Access Transmission Tariff.

A copy of this filing has been served on Morgan Stanley Capital Group, Inc., and the Arizona Corporation Commission.

Comment date: January 26, 2001, in accordance with Standard Paragraph E at the end of this notice.

13. Louisville Gas and Electric Company, Kentucky Utilities Company

[Docket No. ER01-899-000]

Take notice that on January 5, 2001, Louisville Gas and Electric Company (LG&E) and Kentucky Utilities Company (KU), 220 West Main Street, Louisville, Kentucky 40202, tendered for filing with the Commission a notice that LG&E and KU were withdrawing from the Midwest Independent System Operator, Inc. (MISO), a motion requesting the Commission to authorize and approve such withdrawal effective upon the earliest date on which the Commission authorizes and approves the withdrawal from the MISO of either Commonwealth Edison Company or Illinois Power Company, and a motion requesting the Commission to authorize the recovery of LG&E's and KU's associated costs.

Comment date: January 26, 2001, in accordance with Standard Paragraph E at the end of this notice.

14. Pennsylvania Electric Company

[Docket No. ER01-900-000]

Take notice that on January 5, 2001, Potomac Electric Power Company (Pepco), tendered for filing a Notice of Assignment pursuant to which PPL Montour, LLC (PPLM) and Allegheny Energy Supply Conemaugh, LLC (AESC) will replace Pepco under the 115 kV Seward-Conemaugh Interconnection Facilities Agreement (Agreement), Penelec Rate Schedule No. 63, as part of Pepco's transfer of its ownership interests in the Conemaugh Generating Station to PPLM and AESC.

The Agreement will become effective at the time Pepco's ownership interest in the Conemaugh Generating Station is transferred to PPLM and AESC.

Comment date: January 26, 2001, in accordance with Standard Paragraph E at the end of this notice.

15. Pennsylvania Electric Company

[Docket No. ER01-901-000]

Take notice that on January 5, 2001, Potomac Electric Power Company (Pepco), tendered for filing a Notice of Assignment pursuant to which PPL Montour, LLC (PPLM) and Allegheny Energy Supply Conemaugh, LLC (AESC) will replace Pepco under the Conemaugh Generating Station Operating Agreement (Agreement), Penelec Rate Schedule No. 100, as part of Pepco's transfer of its ownership interests in the Conemaugh Generating Station to PPLM and AESC.

The Agreement will become effective at the time Pepco's ownership interest in the Conemaugh Generating Station is transferred to PPLM and AESC.

Comment date: January 26, 2001, in accordance with Standard Paragraph E at the end of this notice.

16. California Power Exchange Corporation

[Docket No. ER01-902-000]

Take notice that on January 5, 2001, the California Power Exchange Corporation (CalPX), tendered for filing its proposed Tariff Amendment No. 22, consisting of a revised Sheet No. 59 and a new Sheet No. 59A to its Tariff. The purpose of Tariff Amendment No. 22 is to change the credit requirements pertaining to its current full requirements customers, namely Pacific Gas and Electric Company, Southern California Edison Company, and San Diego Gas Electric Company (IOUs). Tariff Amendment No. 22 modifies the credit rating requirements pertaining to the IOUs as a result of the Commission's December 15, 2000 order (93 FERC ¶ 61,294) and as a result of recent changes in institutional credit ratings for PG&E and Edison.

To permit the IOU's to continue trading in the CalPX Markets, CalPX requests waiver of the Commission's notice requirements to permit the tendered filing to become effective as of the date of this filing.

CalPX states that it has served this filing on its participants and on the California Public Utilities Commission and has also posted this filing on its website (www.calpx.com).

Comment date: January 26, 2001, in accordance with Standard Paragraph E at the end of this notice.

17. Central Hudson Gas & Electric Corporation

[Docket No. ER01-903-000]

Take notice that on January 8, 2001, Central Hudson Gas and Electric Corporation (Central Hudson), tendered for filing its Rate Schedule FERC No. 202 which sets forth the terms and charges for substation service provided by the Company to Consolidated Edison Company of New York, Inc.

Rate Schedule FERC No. 202, which supersedes Rate Schedule FERC No. 43, also provides the development of actual costs for 1999 related to the provision of the aforementioned substation service.

Central Hudson indicates that the actual costs amounted to $274,659 for 1999 and will be the basis, excluding the New York State Gross Earnings Tax which was eliminated effective January 1, 2000, on which the estimated charges of $272,599 for 2000 will be billed.

Central Hudson states that a copy of its filing was served on Con Edison and the State of New York Public Service Commission.

Comment date: January 29, 2001, in accordance with Standard Paragraph E at the end of this notice.

18. MEP Pleasant Hill Operating, LLC

[Docket No. ER01-905-000]

Take notice that on January 8, 2001, MEP Pleasant Hill Operating, LLC (MEPPH Operating), an indirect wholly owned subsidiary of UtiliCorp United Inc., tendered for filing a rate schedule to engage in sales at market-based rates and two service agreements thereunder. MEPPH Operating included in its filing a proposed code of conduct.

Comment date: January 29, 2001, in accordance with Standard Paragraph E at the end of this notice.

19. Xcel Energy Services

[Docket No. ER01-907-000]

Take notice that on January 8, 2001, Xcel Energy Services Inc. (XES), on behalf of Cheyenne Light, Fuel & Power (CLF&P), tendered for filing a letter approving its application for membership in the Western Systems Power Pool (WSPP).

CLF&P requests the Commission to allow its membership in the WSPP to become effective on January 9, 2001.

Comment date: January 29, 2001, in accordance with Standard Paragraph E at the end of this notice.

20. Allegheny Energy Service Corporation, on Behalf of Monongahela Power Company, The Potomac Edison Company, West Penn Power Company (Allegheny Power)

[Docket No. ER01-908-000]

Take notice that on January 8, 2001, Allegheny Energy Service Corporation on behalf of Monongahela Power Company, The Potomac Edison Company and West Penn Power Company (Allegheny Power), filed Service Agreement No. 334 to add Strategic Energy, L.L.C. to Allegheny Power's Open Access Transmission Service Tariff.

The proposed effective date under the agreement is January 5, 2001.

Copies of the filing have been provided to the Public Utilities Commission of Ohio, the Pennsylvania Public Utility Commission, the Maryland Public Service Commission, the Virginia State Corporation Commission, and the West Virginia Public Service Commission.

Comment date: January 29, 2001, in accordance with Standard Paragraph E at the end of this notice.

21. Consumers Energy Company

[Docket No. ER01-909-000]

Take notice that on January 8, 2001, Consumers Energy Company (Consumers), tendered for filing executed Firm and Non-Firm Point to Point Transmission Service Agreements with Nordic Electric, LLC (Customer) pursuant to the Joint Open Access Transmission Service Tariff filed on December 31, 1996 by Consumers and The Detroit Edison Company (Detroit Edison).

Both Agreements have effective dates of January 1, 2001.

Copies of the filed agreements were served upon the Michigan Public Service Commission, Detroit Edison, and the Customer.

Comment date: January 29, 2001, in accordance with Standard Paragraph E at the end of this notice.

22. Consumers Energy Company

[Docket No. ER01-910-000]

Take notice that on January 8, 2001, Consumers Energy Company (Consumers), tendered for filing executed Firm and Non-Firm Point to Point Transmission Service Agreements with Commonwealth Edison Company and the City of Holland, Michigan Board of Public Works (Customers) pursuant to Consumers' Open Access Transmission Service Tariff filed on July 9, 1996 by Consumers.

All four Agreements have effective dates of January 1, 2001.

Copies of the filed agreements were served upon the Michigan Public Service Commission and the Customers.

Comment date: January 29, 2001, in accordance with Standard Paragraph E at the end of this notice.

23. Niagara Mohawk Power Corporation

[Docket No. ER01-906-000]

Take notice that on January 8, 2001, Niagara Mohawk Power Corporation (Niagara Mohawk), tendered for filing an amendment to Niagara Mohawk's firm transmission service agreement with AES NY, L.L.C., FERC Rate Schedule No. 165, pursuant to Section 35.13 of the Code of Federal Regulations, 18 CFR 35.13.

Comment date: January 29, 2001, in accordance with Standard Paragraph E at the end of this notice.

24. San Diego Gas & Electric Company, Complainant, v. Sellers of Energy and Ancillary Services Into Markets Operated by the California Independent System Operator and the California Power Exchange, Respondents

[Docket No. EL00-95-011]

Take notice that on January 8, 2001, Southern California Edison Company (Edison) tendered for filing pursuant to Ordering Paragraph (A) of the commission's December 15, 2000 Order Directing Remedies for California Wholesale Electric Markets (the Order), 93 FERC ¶ 61,294, its compliance filing.

Comment date: February 1, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-1477 Filed 1-17-01; 8:45 am]

BILLING CODE 6717-01-P